DEPARTMENT OF THE INTERIOR

Bureau of Land Management

[MT-912-0777-HN-003E]

Notice of Special Fire Restrictions—Restrictions and Conditions of Use in the Missoula and Butte Field Offices, Montana.

AGENCY: Bureau of Land Management, Interior.

ACTION: Notice.

SUMMARY: Pursuant to 43 Code of Federal Regulations (CFR) 9212.2, the following acts are prohibited on all Bureau of Land Management lands administered by the Missoula Field Office in Missoula, Granite, and Powell counties and all lands administered by the Butte Field Office in Deer Lodge, west Silver Bow, and west Lewis and Clark counties. These restrictions are in addition to those enumerated in 43 CFR 9212.1 and become effective as of 12 p.m. (noon), Mountain Daylight Time on September 5, 2000. They will remain in effect until rescinded or revoked. They replace the restrictions enacted on August 11, 2000, which are hereby terminated.

Building, maintaining, attending, or using a campfire or any open fire except at a developed, designated recreation site or campground (43 CFR 9212.1(h)).

Smoking, except within an enclosed vehicle or building; at an improved place of habitation; at a developed, designated recreation site or campground; or while stopped in an area at least 3 feet in diameter that is cleared of all flammable material (43 CFR 9212.1(h)).

Use of chainsaws or other equipment with internal combustion engines for felling, bucking, skidding, wood cutting, road building, and other high fire risk operations between 1 p.m. and 1 a.m. local time. Exceptions are helicopter yarding and earth moving on areas of cleared and bare soil. Sawing incidental to loading operations on cleared landings is not necessarily restricted (43 CFR 9212.1(h)).

Using chainsaws or other equipment with internal combustion engines for felling, bucking, skidding, wood cutting or any other operation within areas having a significant accumulation of dead or down slash or timber (43 CFR 9212.1(h)).

Welding, blasting (except seismic operations confined by ten or more feet of soil, sand or cuttings), and other activities with a high potential for causing forest fires (43 CFR 9212.1(h)).

A patrol is required for a period of two hours after any woods operations including felling, bucking, skidding, woodcutting, or road building cease. A patrol is also required for one hour following the cessation of all work activity. The patrolperson's responsibilities include checking for compliance with required fire precautions.

Possessing or using motorized vehicles such as, but not limited to cars, trucks, trail bikes, motorcycles and all terrain vehicles off of cleared roads is prohibited except for persons engaged in a trade, business or occupation in the area. Cleared roads are defined as roads cleared of vegetation shoulder to shoulder(43 CFR 9212.1(h)).

Exemptions to the above prohibitions are allowed only for any Federal, State, or local officer, or member of an organized rescue or firefighting force or Law Enforcement in the performance of an official duty, or persons with a permit or written authorization allowing the otherwise prohibited act or omission.

Violation of this order is prohibited by the provisions of the regulations cited. Under 43 CFR 9212.4, any violation is subject to punishment by a fine of not more than $1,000 or imprisonment of not more than 12 months, or both.

DATES: Restrictions go into effect at 12:01 pm (noon) on Tuesday, September 5, 2000, and will remain in effect until further notice.

ADDRESSES: Comments should be sent to BLM Montana State Director, Attention: Pat Mullaney, P.O. Box 36800, Billings, Montana 59107-6800.

FOR FURTHER INFORMATION CONTACT: Pat Mullaney, Fire Management Specialist, 406-896-2915.

Dated: September 5, 2000.
Roberta A. Moltzen,
Acting State Director.

[FR Doc. 00-23197 Filed 9-6-00; 12:37 pm]

BILLING CODE 4310-$$-P